DEPARTMENT OF VETERANS AFFAIRS

[OMB Control No. 2900-New, USAA/Hartford]

Agency Information Collection: Emergency Submission for OMB Review; Comment Request

AGENCY: Veterans Health Administration, Department of Veterans Affairs.

ACTION: Notice.

SUMMARY: In compliance with the Paperwork Reduction Act (PRA) of 1995 (44 U.S.C., 3501 et seq.), this notice announces that the United States Department of Veterans Affairs (VA), has submitted to the Office of Management and Budget (OMB) the following emergency proposal for the collection of information under the provisions of the Paperwork Reduction Act (44 U.S.C. 3507(j)(1)). An emergency clearance is being requested pursuant to a Settlement Agreement resolving litigation between VA and United Services Automobile Association (USAA) and Hartford Life Insurance to reimburse veterans insured by either carrier during the period from January 1, 1995 through December 31, 2001 who paid copayments to VA during that period for their VA care. OMB has been requested to act on this emergency clearance request by March 10, 2003.

DATE: Comments must be submitted on or before March 13, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-New, USAA/Hartford.”

Send comments and recommendations concerning any aspect of the information collection to VA's OMB Desk Officer, OMB Human Resources and Housing Branch, New Executive Office Building, Room 10235, Washington, DC 20503 (202) 395-7316 or FAX (202) 395-6974. Please refer to “2900-New, USAA/Hartford.”

SUPPLEMENTARY INFORMATION:

Title: VA Copayment Refund—USAA/Hartford Claim Form, VA Form 10-0406.

OMB Control Number: 2900-New, USAA/Hartford.

Type of Review: New collection.

Abstract: As a result of a Settlement Agreement between VA, USAA and Hartford, VA will reimburse veterans insured by either carrier for co-payments they paid to VA for their medical care from January 1, 1995 through December 31, 2001. Such insured veterans will have a one year time period from the initial notification date on a first-come-first-served basis, to file claim with VA for refund of their co-payments. VA Form 10-0406 will be used to collect the information and to determine the validity of such claims. If the information is not collected, VA will not be able to reimburse those insured veterans.

Affected Public: Individuals or households.

Estimated Total Annual Burden: 12,000 hours.

Estimated Average Burden Per Respondent: 30 minutes.

Frequency of Response: One time.

Estimated Number of Respondents: 24,000.

Dated: February 26, 2003.
By direction of the Secretary.
Martin L. Hill,
Acting Director, Records Management Service.

[FR Doc. 03-5195 Filed 3-5-03; 8:45 am]

BILLING CODE 8320-01-P